INTERNATIONAL TRADE COMMISSION

[USITC SE-17-006]

Government in the Sunshine Act Meeting Notice

AGENCY HOLDING THE MEETING: United States International Trade Commission.

TIME AND DATE: February 22, 2017 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-556 and 731-TA-1311 (Final) (Truck and Bus Tires from China). The Commission is currently scheduled to complete and file its determinations and views of the Commission by March 13, 2017.

5. Vote in Inv. No. 731-TA-1091 (Second Review) (Artists' Canvas from China). The Commission is currently scheduled to complete and file its determination and views of the Commission by March 2, 2017.

6. Outstanding action jackets: None.

In accordance with Commission policy, subject matter listed above, not disposed of at the scheduled meeting, may be carried over to the agenda of the following meeting.

By order of the Commission.
Issued: February 9, 2017.
William R. Bishop,
Supervisory Hearings and Information Officer.

[FR Doc. 2017-03114 Filed 2-13-17; 11:15 am]

BILLING CODE P